FEDERAL COMMUNICATIONS COMMISSION

[OMB 3060-0986; FR ID 282209]

Information Collection Being Reviewed by the Federal Communications Commission

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

DATES: Written PRA comments should be submitted on or before May 5, 2025. If you anticipate that you will be submitting comments, but find it difficult to do so within the period of time allowed by this notice, you should advise the contact listed below as soon as possible.

ADDRESSES: Direct all PRA comments to Nicole Ongele, FCC, via email PRA@fcc.gov and to nicole.ongele@fcc.gov.

FOR FURTHER INFORMATION CONTACT: For additional information about the information collection, contact Nicole Ongele, (202) 418-2991.

SUPPLEMENTARY INFORMATION: The FCC may not conduct or sponsor a collection of information unless it displays a currently valid control number. No person shall be subject to any penalty for failing to comply with a collection of information subject to the PRA that does not display a valid Office of Management and Budget (OMB) control number.

OMB Control Number: 3060-0986.

Title: High-Cost Universal Service Support.

Form Number: FCC Form 481 and FCC Form 525.

Type of Review: Revision of a currently approved collection.

Respondents: Business or other for-profit, not-for-profit institutions and state, local or tribal government.

Number of Respondents and Responses: 2,229 respondents; 14,172 responses.

Estimated Time per Response: 0.1-15 hours.

Frequency of Response: On occasion, quarterly and annual reporting requirements, recordkeeping requirement and third-party disclosure requirement.

Obligation to Respond: Required to obtain or retain benefits. Statutory authority for this information collection is contained in 47 U.S.C. 151-154, 155, 201-206, 214, 218-220, 251, 252, 254, 256, 303(r), 332, 403, 405, 410, and 1302.

Total Annual Burden: 51,573 hours.

Total Annual Cost: No Cost.

Needs and Uses: The Commission is requesting the Office of Management and Budget (OMB) approval for this revised information collection. On November 18, 2011, the Commission adopted an order reforming its high-cost universal service support mechanisms. Connect America Fund; A National Broadband Plan for Our Future; Establish Just and Reasonable Rates for Local Exchange Carriers; High-Cost Universal Service Support; Developing a Unified Intercarrier Compensation Regime; Federal-State Joint Board on Universal Service; Lifeline and Link-Up; Universal Service Reform—Mobility Fund, WC Docket Nos. 10-90, 07-135, 05-337, 03-109; GN Docket No. 09-51; CC Docket Nos. 01-92, 96-45; WT Docket No. 10-208, Order and Further Notice of Proposed Rulemaking, 26 FCC Rcd 17663 (2011) (USF/ICC Transformation Order). The Commission and Wireline Competition Bureau (WCB or the Bureau) have since adopted a number of orders that implement the USF/ICC Transformation Order; see also Connect America Fund et al., WC Docket No. 10-90 et al., Third Order on Reconsideration, 27 FCC Rcd 5622 (2012); Connect America Fund et al., WC Docket No. 10-90 et al., Order, 27 FCC Rcd 605 (WCB 2012); Connect America Fund et al., WC Docket No. 10-90 et al., Fifth Order on Reconsideration, 27 FCC Rcd 14549 (2012); Connect America Fund et al., WC Docket No. 10-90 et al., Order, 28 FCC Rcd 2051 (WCB 2013); Connect America Fund et al., WC Docket No. 10-90 et al., Order, 28 FCC Rcd 7227 (WCB 2013); Connect America Fund, WC Docket No. 10-90, Report and Order, 28 FCC Rcd 7766 (WCB 2013); Connect America Fund, WC Docket No. 10-90, Report and Order, 28 FCC Rcd 7211 (WCB 2013); Connect America Fund, WC Docket No. 10-90, Report and Order, 28 FCC Rcd 10488 (WCB 2013); Connect America Fund et al., WC Docket No. 10-90 et al., Report and Order and Further Notice of Proposed Rulemaking, 29 FCC Rcd 8769 (2014); Connect America Fund et al., WC Docket No. 10-90 et al., Report and Order, Order and Order on Reconsideration and Further Notice of Proposed Rulemaking, 31 FCC Rcd 3087 (2016); Connect America Fund, et al., WC Docket No. 10-90, et al., Report and Order and Further Notice of Proposed Rulemaking, 31 FCC Rcd 5949 (2016); Connect America Fund et al., WC Docket Nos. 10-90, 16-271; WT Docket No. 10-208, Report and Order and Further Notice of Proposed Rulemaking, 31 FCC Rcd 10139 (2016); Connect America Fund; ETC Annual Reports and Certifications, WC Docket Nos. 10-90, 14-58, Order, 32 FCC Rcd 968 (2017); Connect America Fund et al., WC Docket No. 10-90 et al., Report and Order, Further Notice of Proposed Rulemaking, and Order on Reconsideration, 33 FCC Rcd 11893 (2018); Connect America Fund; ETC Annual Reports and Certifications, WC Docket Nos. 10-90, 14-58, Report and Order, 32 FCC Rcd 5944 (2017).

In 2019, the Commission adopted an order establishing the Uniendo a Puerto Rico Fund (PR Fund) and the Connect USVI Fund, a separate, parallel high-cost program for the U.S. territories suffering extensive infrastructure damage due to Hurricanes Irma and Maria. The Uniendo a Puerto Rico Fund and the Connect USVI Fund, et al., WC Docket No. 18-143, et al., Report and Order and Order on Reconsideration, 34 FCC Rcd 9109 (2019) (Puerto Rico and USVI Stage 2 Order). Also, in the 2019 Supply Chain Order, the Commission adopted a rule prohibiting the use of Universal Service Fund (USF) support, including high-cost universal service support, to purchase or obtain any equipment or services produced or provided by a covered company posing a national security threat to the integrity of communications networks or the communications supply chain. Protecting Against National Security Threats to the Communications Supply Chain Through FCC Programs, WC Docket No. 18-89, Report and Order, Further Notice of Proposed Rulemaking, and Order, 34 FCC Rcd 11423, 11433, para. 26 (WCB 2019). See also 47 CFR 54.9.

On January 30, 2020, the Commission adopted an order establishing the framework for the RDOF, building on the successful CAF Phase II auction. Rural Digital Opportunity Fund; Connect America Fund, WC Docket Nos. 19-126 and 10-90, Report and Order, 35 FCC Rcd 686 (2020) (RDOF Order). Later that year, the Commission adopted two additional supply chain rules associated with newly required certifications. Protecting Against National Security Threats to the Communications Supply Chain Through FCC Programs, WC Docket No. 18-89, Second Report and Order, 35 FCC Rcd 14284 (2020) (2020 Supply Chain Order).

Through several orders, the Commission has reconfigured and extended certain high-cost programs, adding obligations applicable to these particular programs, and has changed, modified, and eliminated certain other obligations for high-cost support. These changes are outlined below:

In 2018, the Bureau announced that, as of March 1, 2018, and continuing with annual reports due March 1 in subsequent years, recipients of Rural Broadband Experiments (RBE) support would no longer submit location information and associated evidence with their annual FCC Form 481, as previously required, but would instead submit this information using the Universal Service Administrative Company (USAC or the Administrator)'s High-Cost Universal Broadband (HUBB) portal. See Wireline Competition Bureau Provides Guidance to Carriers Receiving Connect America Fund Support Regarding their Broadband Location Reporting Obligations, Public Notice, 31 FCC Rcd 12900, 12908 (WCB 2016). OMB approved the collection of this location information through the HUBB in OMB Control No. 3060-1228, Connect America Fund—High Cost Portal Filing. This collection now reflects that this obligation is being collected under OMB Control No. 3060-1228.

On July 23, 2023, the Commission established the Enhanced Alternative Connect America Cost Model (A-CAM) program, the next iteration of the A-CAM programs. See Connect America Fund: A National Broadband Plan for Our Future High-Cost Universal Service Support et al., WC Docket No. 10-90 et al., Report and Order, Notice of Proposed Rulemaking, and Notice of Inquiry, FCC 23-60 (rel. July 24, 2023) (Enhanced A-CAM Order). Under the Enhanced A-CAM program, carriers electing to receive Enhanced A-CAM support will receive such support for a term ending in 2038, for broadband deployment with speeds of at least 100 Mbps download and 20 Mbps upload, and will be subject to reporting and certification obligations associated with Enhanced A-CAM support. See Enhanced A-CAM Order at 24-27, paras. 52-59. On October 30, 2023, the Bureau announced that 368 carriers electing Enhanced A-CAM will receive $18.28 billion in total over the 15-year term. See Wireline Competition Bureau Authorizes 368 Companies in 44 States to Receive Enhanced Alternative Connect America Cost Model Support to Expand Rural Broadband, WC Docket No. 10-90, Public Notice, DA 23-1025 (WCB 2023).

On October 20, 2023, the Commission adopted an order, that among other things, modified and clarified certain requirements associated with FCC Form 481 and similar filings. See Connect America Fund et al., WC Docket No. 10-90 et al., Notice of Proposed Rulemaking and Report and Order, FCC 23-87 (rel. Oct. 20, 2023) (Administrative Order). The Administrative Order updated the rules to properly state that duplicate copies of the annual high-cost reports and certifications, i.e., the FCC Form 481, as described in sections 54.313 and 54.314 of the Commission's rules, need not be filed with more than one entity; carriers must now only file the FCC Form 481 with USAC. See Administrative Order at 60-62, paras. 133-34; 47 CFR 54.313-14. See also Connect America Fund; ETC Annual Reports and Certifications, WC Docket Nos. 10-90, 14-58, Report and Order, 32 FCC Rcd 5944, 5948, para. 15 (2017) (ETC Reporting Streamlining Order) (“[C]ontingent upon USAC's completion of the rollout of an online portal for recipients of high cost services, we will no longer require ETCs to file duplicate copies of Form 481 with the FCC and with states, U.S. Territories, and/or Tribal governments beginning in 2018.”). The Administrative Order also made explicit that the required certification of compliance with voice and broadband benchmarks in FCC Form 481 covers the calendar year preceding the date that the FCC Form 481 is due, and is based on benchmarks released by the Commission before that calendar year (two years before the year that the FCC Form 481 is due to be submitted). See Administrative Order at 67, para. 150.

The Commission therefore proposes to revise this information collection, as well as the Form 481 and its accompanying instructions, to reflect these new and modified requirements.

Federal Communications Commission.
Marlene Dortch,
Secretary, Office of the Secretary.

[FR Doc. 2025-03522 Filed 3-4-25; 8:45 am]

BILLING CODE 6712-01-P